DEPARTMENT OF THE TREASURY

Submission for OMB Review; Comment Request

September 14, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 22, 2001 to be assured of consideration.

Departmental Offices/Executive Office for Asset Forfeiture

OMB Number: 1505-0152.

Form Number: TD F 92-22.46.

Type of Review: Extension.

Title: Request for Transfer of Property Seized/Forfeited by a Treasury Agency.

Description: Form TD F 92-22.46 is necessary for the application for receipt of seized assets by Federal, State and Local Law Enforcement agencies.

Respondents: Federal Government, State, Local or Tribal Government.

Estimated Number of Respondents/Recordkeepers: 5,000.

Estimated Burden Hours Per Respondent/Recordkeeper: 30 minutes.

Frequency of Response: Other (one submission per requested asset sharing).

Estimated Total Reporting/Recordkeeping Burden: 2,500 hours.

Clearance Officer: Lois K. Holland (202) 622-1563, Departmental Offices, Room 2110, 1425 New York Avenue, NW, Washington, DC 20220.

OMB Reviewer: Alexander T. Hunt, (202) 395-7860, Office of Management and Budget, Room 10202, New Executive Office Building, Washington, DC 20503.

Lois K. Holland,
Departmental Reports, Management Officer.

[FR Doc. 01-23508 Filed 9-19-01; 8:45 am]

BILLING CODE 4810-25-P